DEPARTMENT OF HOMELAND SECURITY

Coast Guard

33 CFR Part 151

46 CFR Part 162

[USCG-2001-10486]

RIN 1625-AA32

Standards for Living Organisms in Ships' Ballast Water Discharged in U.S. Waters

AGENCY: Coast Guard, DHS.

ACTION: Notice; extension of comment periods.

SUMMARY: The Coast Guard is extending the periods for public comment on the notice of proposed rulemaking (NPRM) and the Draft Programmatic Environmental Impact Statement (DPEIS) for the rulemaking entitled “Standards for Living Organisms in Ships' Ballast Water” (Docket No. USCG-2001-10486).

DATES: Comments and related material for the NPRM and the DPEIS must either be submitted to our online docket via http://www.regulations.gov on or before the new date for the close of the comment period, December 4, 2009, or reach the Docket Management Facility by that date.

ADDRESSES: You may submit comments identified by Coast Guard docket number USCG-2001-10486 to the Docket Management Facility at the U.S. Department of Transportation. To avoid duplication, please use only one of the following methods:

(1) Federal eRulemaking Portal: http://www.regulations.gov.

(2) Mail: Docket Management Facility (M-30), U.S. Department of Transportation, West Building Ground Floor, Room W12-140, 1200 New Jersey Avenue, SE., Washington, DC 20590-0001.

(3) Hand delivery: Docket Management Facility (M-30), U.S. Department of Transportation, West Building Ground Floor, Room W12-140, 1200 New Jersey Avenue, SE., Washington, DC 20590, between 9 a.m. and 5 p.m., Monday through Friday, except Federal holidays. The telephone number is 202-366-9329.

(4) Fax: 202-493-2251.

To avoid duplication, please use only one of these four methods. See the “Public Participation and Request for Comments” portion of the SUPPLEMENTARY INFORMATION section below for instructions on submitting comments.

FOR FURTHER INFORMATION CONTACT: If you have questions on this proposed rulemaking, call or e-mail Mr. John Morris, Project Manager, Environmental Standards Division, U.S. Coast Guard Headquarters, telephone 202-372-1433, e-mail John.C.Morris@uscg.mil. If you have questions on viewing or submitting material to the docket, call Ms. Renee Wright, Chief, Dockets, Department of Transportation, telephone 202-366-9826.

SUPPLEMENTARY INFORMATION:

Public Participation and Request for Comments

We encourage you to participate in this aspect of the rulemaking by submitting comments and related materials. All comments received will be posted, without change, to http://www.regulations.gov and will include any personal information you have provided.

Submitting Comments

If you submit a comment, please include the docket number for this rulemaking (USCG-2001-10486), indicate the specific section of the document to which each comment applies, and provide a reason for each suggestion or recommendation. You may comment on either the NPRM or the DPEIS or both. You may submit your comments and material online or by fax, mail, or hand delivery, but please use only one of these means. We recommend that you include your name and a mailing address, an e-mail address, or a phone number in the body of your document so that we can contact you if we have questions regarding your submission.

To submit your comment online, go to http://www.regulations.gov and click on the “submit a comment” box, which will then become highlighted in blue. Insert “USCG-2001-10486” in the Keyword box, click “Search”, and then click on the balloon shape in the Actions column. If you submit your comments by mail or hand delivery, submit them in an unbound format, no larger than 8½ by 11 inches, suitable for copying and electronic filing. If you submit comments by mail and would like to know that they reached the Facility, please enclose a stamped, self-addressed postcard or envelope.

We will consider all comments and material received during the comment period and may change this proposed rule or the DPEIS based on your comments.

Viewing Comments and Documents

To view comments, as well as documents mentioned in this preamble as being available in the docket, go to http://www.regulations.gov at any time. Enter the docket number for this rulemaking (USCG-2001-10486) in the Keyword box, and click “Search”. You may also visit the Docket Management Facility in Room W12-140 on the ground floor of the DOT West Building, 1200 New Jersey Avenue, SE., Washington, DC 20590, between 9 a.m. and 5 p.m., Monday through Friday, except Federal holidays. We have an agreement with the Department of Transportation to use the Docket Management Facility.

Privacy Act

Anyone can search the electronic form of all comments received into any of our dockets by the name of the individual submitting the comment (or signing the comment, if submitted on behalf of an association, business, labor union, etc.). You may review a Privacy Act notice regarding our public dockets in the January 17, 2008, issue of the Federal Register (73 FR 3316).

Background and Purpose

On August 28, 2009, the Coast Guard published an NPRM entitled “Standards for Living Organisms in Ships' Ballast Water Discharged in U.S. Waters” in the Federal Register (74 FR 44632). The comment period for the NPRM was to close on November 27, 2009. On the same day, the Coast Guard also published a Notice of Availability in the Federal Register informing the public that the DPEIS for the “Standards for Living Organisms in Ships' Ballast Water Discharged in U.S. Waters” rulemaking had been added to the docket and was available for public comment (74 FR 44673). The August 28, 2009 Notice of Availability for the DPEIS stated that the public comment period for the DPEIS would close on November 27, 2009.

Council on Environmental Quality regulations at 40 CFR part 1506.10 state that “(a) The Environmental Protection Agency shall publish a notice in the Federal Register each week of the environmental impact statements filed during the preceding week. The minimum time periods set forth in this section shall be calculated from the date of publication of this notice. (b) No decision on the proposed action shall be made or recorded under Sec. 1505.2 by a Federal agency until the later of the following dates: (1) Ninety days after publication of the notice described above in paragraph (a) of this section for a draft environmental impact statement.” The Environmental Protection Agency did not publish their notice of availability for the DPEIS until September 4, 2009. Accordingly, the Coast Guard has decided to extend the comment periods for both the NPRM and the DPEIS in order to ensure that the public has adequate time to submit comments regarding these important proposals. The comment period for the NPRM and the DPEIS will now close on December 4, 2009.

Additionally, you are reminded that you may comment on any aspect of the rulemaking, including on any comments placed in the docket. We may change the proposed rule or the DPEIS in response to the comments received.

Dated: October 8, 2009.
J.G. Lantz,
Director of Commercial Regulations and Standards, U.S. Coast Guard.

[FR Doc. E9-24745 Filed 10-14-09; 8:45 am]

BILLING CODE 4910-15-P